DEPARTMENT OF TRANSPORTATION

Federal Aviation Administration

14 CFR Part 71

[Docket No. FAA-2022-0646; Airspace Docket No. 21-AEA-17]

RIN 2120-AA66

Proposed Amendment and Removal of VOR Federal Airways in the Eastern United States

AGENCY: Federal Aviation Administration (FAA), DOT.

ACTION: Notice of proposed rulemaking (NPRM).

SUMMARY: This action proposes to modify 4 VHF Omnidirectional Range (VOR) Federal Airways, (V-7, V-9, V-106, and V-214); and remove 7 VOR Federal Airways, (V-58, V-130, V-149, V-379, V-445, V-451, and V-479) in support of the FAA's VOR Minimum Operation Network (MON) project.

DATES: Comments must be received on or before July 15, 2022.

ADDRESSES: Send comments on this proposal to the U.S. Department of Transportation, Docket Operations, 1200 New Jersey Avenue SE, West Building, Ground Floor, Room W12-140, Washington, DC 20590; telephone: (800) 647-5527 or (202) 366-9826. You must identify FAA Docket No. FAA-2022-0646; Airspace Docket No. 21-AEA-17 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0646; Airspace Docket No. 21-AEA-17) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0646; Airspace Docket No. 21-AEA-17.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to modify 4 VOR Federal Airways, (V-7, V-9, V-106, and V-214), and remove 7 VOR Federal Airways, (V-58, V-130, V-149, V-379, V-445, V-451, and V-479). The proposed changes are described below.

V-7: V-7 currently consists of three separate parts: From Dolphin, FL, to Muscle Shoals, AL; From Pocket City, IN, to the intersection of radials from the Chicago Heights, IL, and Badger, WI, navigation aids; and From Green Bay, WI, to Sawyer, MI. The FAA proposes amend the first part of the route by removing the segment between Vulcan, AL, and Muscle Shoals, AL. As amended, the first part of V-7 would extend between Dolphin, FL, and Montgomery, AL. The remaining two parts of the route would remain unchanged. Additionally, the current legal description of V-7 contains the following statements: “The airspace below 2,000 feet MSL outside the United States is excluded. The portion outside the United States has no upper limit.” A review of aeronautical charts revealed that no part of V-7 extends outside of United States airspace. Therefore, the FAA intends to remove the statements from the legal description. Other changes to V-7 are being proposed in a separate docket action.

V-9: V-9 currently extends from Leeville, LA to Pontiac, IL; and from Janesville, WI, to Houghton, MI. This action would remove Sidon, MS, Marvell, AR, Gilmore, AR, and Malden, MO, from the route. As amended, V-9 would consist of three parts: From Leeville, LA, to Magnolia, MS; From Farmington, MO, to Pontiac, IL; and From Janesville, WI, to Houghton, MI.

V-58: V-58 currently consists of two parts: From Philipsburg, PA, to Williamsport, PA; and from the intersection of the Sparta, NJ, 018° and the Kingston NY, 270° radials to Nantucket, MA. This action proposes to remove the entire route. RNAV route T-216 replaces V-58.

V-106: V-106 currently extends between Johnstown, PA, and the intersection of the Wilkes-Barre, PA, 037 °, and the Sparta, NJ, 300 ° radials. This action would remove the segments from Selinsgrove, PA, to the intersection of the above Wilkes-Barre and Sparta radials. As amended, V-106 would extend from Johnstown, PA, to the intersection of the Johnstown 068 ° and the Selinsgrove 259 ° radials. RNAV route T-212 replaces the segments of V-106 being proposed for removal.

V-130: V-130 currently extends from Norwich, CT, to Marthas Vineyard, MA. The FAA proposes to remove the entire route. RNAV route T-255 replaces V-130.

V-149: V-149 currently extends from Allentown, PA, to Binghamton, NY. This action would remove the entire route. RNAV route T-221 replaces V-149.

V-214: V-214 currently consists of three parts: From Kokomo, IN, to Muncie, IN; From the intersection of the Appleton, OH, 236° and the Zanesville, OH, 274° radials to Bellaire, OH; and From Martinsburg, WV, to Teterboro, NJ. This action proposes to remove the segments from Martinsburg, WV, to Teterboro, NJ. As proposed, V-214 would extend from Kokomo, IN, to Muncie, IN; and From the intersection of the Appleton and Zanesville radials to Bellaire. RNAV route T-356 replaces V-214.

V-379: V-379 currently extends from Nottingham, MD, to Smyrna, DE. This route is not being used, therefore, the FAA proposes to remove the entire route. New performance Based Navigation procedures and T-routes have been designed to mirror current routings to and from the Washington, DC, Metropolitan area.

V-445: V-445 currently extends from the intersection of the Washington, DC, 065° and the Baltimore, MD, 197° radials, to LaGuardia, NY. This action would remove the entire route. RNAV route T-356 replaces portions of this route.

V-451: V-451 currently extends from LaGuardia, NY, to Groton, CT. This route is not being used, therefore, the FAA proposes to remove the entire route. New T-routes have been designed to mirror current routings to and from the New York Metropolitan area.

V-479: V-479 currently extends from Dupont, DE, to Yardley, PA. This route is not being used, therefore, the FAA proposes to remove the entire route. New T-routes have been designed to mirror current routings to and from the Philadelphia and New York Metropolitan areas.

Domestic VOR Federal airways are published in paragraph 6010(a) of FAA Order JO 7400.11F, dated August 10, 2021, and effective September 15, 2021, which is incorporated by reference in 14 CFR 71.1. The VOR Federal airways listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways

* * * * *

V-7 [Amended]

From Dolphin, FL; INT Dolphin 299° and Lee County, FL, 120° radials; Lee County; Lakeland, FL; Cross City, FL; Seminole, FL; Wiregrass, AL; INT Wiregrass 333° and Montgomery, AL, 129° radials; to Montgomery. From Pocket City, IN; INT Pocket City 016° and Terre Haute, IN, 191° radials; Terre Haute; Boiler, IN; Chicago Heights, IL; to INT Chicago Heights 358° and Badger, WI, 117° radials. From Green Bay, WI; Menominee, MI; to Sawyer, MI.

* * * * *

V-9 [Amended]

From Leeville, LA; McComb, MS; INT McComb 004° and Magnolia, MS 194° radials; to Magnolia. From Farmington, MO; St. Louis, MO; Spinner, IL; to Pontiac, IL. From Janesville, WI; Madison, WI; Oshkosh, WI; Green Bay, WI; Iron Mountain, MI; to Houghton, MI.

* * * * *

V-58 [Removed]

* * * * *

V-106 [Amended]

From Johnstown, PA; to INT Johnstown 068° and Selinsgrove, PA, 259° radials.

* * * * *

V-130 [Removed]

* * * * *

V-149 [Removed]

* * * * *

V-214 [Amended]

From Kokomo, IN, Marion, IN; to Muncie, IN. From INT Appleton, OH, 236° and Zanesville, OH, 274° radials; Zanesville; to Bellaire, OH.

* * * * *

V-37 [Removed]

* * * * *

V-445 [Removed]

* * * * *

V-451 [Removed]

* * * * *

Issued in Washington, DC, on May 23, 2022.
Scott M. Rosenbloom,
Manager, Airspace Rules and Regulations.

[FR Doc. 2022-11502 Filed 5-27-22; 8:45 am]

BILLING CODE 4910-13-P